DEPARTMENT OF TRANSPORTATION

Federal Aviation Administration

Notice of Intent To Rule on Application to Impose and Use the Revenue From a Passenger Facility Charge (PFC) at Duluth International Airport, Duluth Minnesota

AGENCY: Federal Aviation Administration (FAA), DOT.

ACTION: Notice of intent to rule on application.

SUMMARY: The FAA proposes to rule and invites public comment on the application to impose and use the revenue from a PFC at Duluth International Airport under the provisions of the Aviation Safety and Capacity Expansion Act of 1990 (Title IX of the Omnibus Budget Reconciliation Act of 1990) (Public Law 101-508) and part 158 of the Federal Aviation Regulations (14 part 158).

DATES: Comments must be received on or before January 4, 2002.

ADDRESSES: Comments on this application may be mailed or delivered in triplicate to the FAA at the following address: Federal Aviation Administration, Minneapolis Airports District office, 6020 28th Avenue South, Room 102, Minneapolis, Minnesota 55450-2706.

In addition, one copy of any comments submitted to the FAA must be mailed or delivered to Mr. Raymond Klosowski, Executive Director, Duluth Airport Authority, at the following address: Duluth Airport Authority, Duluth International Airport, 4701 Grinder Drive, Duluth, MN 55811. Air carriers and foreign air carriers may submit copies of written comments previously provided to the Duluth Airport Authority under section 158.23 of part 158.

FOR FURTHER INFORMATION CONTACT: Mr. Gordon Nelson, Program Manager, Federal Aviation Administration, Airports District Office, 6020 28th Avenue South, Room 102, Minneapolis, Minnesota 55450-2706, (612) 713-4358. The applicaiton may be reviewed in person at this same location.

SUPPLEMENTARY INFORMATION: The FAA proposes to rule and invites public comment on the application to impose and use the revenue from a PFC at Duluth International Airport Under the provisions of the Aviation Safety and Capacity Expansion Act of 1990 (Title IX of the Omnibus budget Reconciliation Act of 1990) (Public Law 101-508) and part 158 of the Federal Aviation Regulations (14 CFR part 158).

On October 18, 2001, the FAA determined that the application to impose and use the revenue from a PFC submitted by the Duluth Airport authority was substantially complete within the requirements of section 158.25 of part 158. The FAA will approve or disapprove the application, in whole or in part, no later than January 16, 2002.

The following is a brief overview of the application.

PFC application number: 01-05-C-00-DLH.

Level of the proposed FPC: $4.50.

Proposed charge effective date: March 1, 2002.

Proposed charge expiration date: March 1, 2003.

Total estimated FPC revenue: $554,556.00.

Brief description of proposed projects: Prepare PFC application; upgrade surveillance camera system (Phase II); repair and replace concrete panels for Runway 9-27 and reconstruct a segment of Taxiway A; design Runway 9 Cat II Instrument Landing System (ILS) and midfield runway Visual Range (RVR); reconstruct passenger terminal apron; improve runway 9 safety area (west end); install runway 9 high intensity approach lighting system with sequenced flashing lights (ALSF-2); acquire 8.5 acres of wetland credits; improve runway safety area at the southwest end of runway 3-21; construct perimeter road around the southwest end of Runway 3-21; install 12,950 feet of 6-ft high security fence and 2,700 feet of ten-foot high deer fence. Class or classes of air carriers which the public agency has requested not be required to collect PFCs: non-scheduled part 135 Air Taxi/Commercial Operators (ATCO).

Any person may inspect the application in person at the FAA office listed above under “FOR FURTHER INFORMATION CONTACT”.

In addition, any person may, upon request, inspect the application, notice and other documents germane to the applicaiton in person at the Duluth Airport Authority Office.

Issued in Des Plaines, Illinois, on November 27, 2001.
Mark McClardy,
Acting Manager, Planning/Programming Branch, Airports Division, Great Lakes Region.

[FR Doc. 01-30135 Filed 12-4-01; 8:45 am]

BILLING CODE 4910-13-M